DEPARTMENT OF COMMERCE

National Oceanic and Atmospheric Administration

RIN 0648-XF670

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Spiny Dogfish Monitoring Committee will hold a public meeting to review 2018 specifications and management measures and make any appropriate recommendations.

DATES: The meeting will be held Wednesday, September 20, 2017, from 9 a.m. to 11 a.m.

ADDRESSES: The meeting will be held via webinar: http://mafmc.adobeconnect.com/spinydogmc-2017/. Call-in information is provided upon logging onto the webinar.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org will also have details on the proposed agenda and briefing materials.

SUPPLEMENTARY INFORMATION: The Mid-Atlantic Fishery Management Council's Spiny Dogfish Monitoring Committee will hold a public meeting to review 2018 specifications and management measures and make any appropriate recommendations. Spiny dogfish is in multi-year specifications for 2016-18 but the specifications are reviewed annually. Public comment will be taken.

Special Accommodations

The meeting is physically accessible to people with disabilities. Requests for sign language interpretation or other auxiliary aid should be directed to M. Jan Saunders, (302) 526-5251, at least 5 days prior to the meeting date.

Dated: August 31, 2017.
Tracey L. Thompson,
Acting Deputy Director, Office of Sustainable Fisheries, National Marine Fisheries Service.

[FR Doc. 2017-18871 Filed 9-5-17; 8:45 am]

BILLING CODE 3510-22-P